NATIONAL SCIENCE FOUNDATION

Advisory Committee for Education and Human Resources; Notice of Meeting

In accordance with the Federal Advisory Committee Act (Pub. L. 92-463, as amended), the National Science Foundation announces the following meeting:

Name: Advisory Committee for Education and Human Resources (#1119).

Date/Time: Dec. 2, 2015, 8:00 a.m.-5:00 p.m.; Dec. 3. 2015, 8:00 a.m.-1:00 p.m.

Place: National Science Foundation, 4121 Wilson Boulevard, Room 555, Arlington, VA 22230.

Operated assisted teleconference is available for this meeting. Call 888-658-9757 with password EHR and you will be connected to the audio portion of the meeting.

To attend the meeting in person, all visitors must contact the Directorate for Education and Human Resources (ehr_ac@nsf.gov) at least 24 hours prior to the teleconference to arrange for a visitor's badge. All visitors must report to the NSF visitor desk located in the lobby at the 9th and N. Stuart Streets entrance at 4201 Wilson Blvd. on the day of the teleconference to receive a visitor's badge.

Meeting materials and minutes will also be available on the EHR Advisory Committee Web site at http://www.nsf.gov/ehr/advisory.jsp.

Type of Meeting: Open, Teleconference.

Contact Person: Keaven M. Stevenson, National Science Foundation, 4201 Wilson Boulevard, Room 805, Arlington, VA 22230, (703) 292-8600; kstevens@nsf.gov.

Purpose of Meeting: To provide advice with respect to the Foundation's science, technology, engineering, and mathematics (STEM) education and human resources programming.

Agenda:

Wednesday, Dec. 2, 2015, 8:00 a.m.-5:00 p.m.

• Remarks by the Committee Chair and NSF Assistant Director for Education and Human Resources (EHR)

• Revisiting the EHR Advisory Committee Re-envisioning Document and Recommendations

• Discussion of EHR AC Subcommittee Report on HBCUs

• Discussion: Research-to-Practice Interface—Open Education and I-Corps L

• Discussion with France Córdova, NSF Director

• Synthesis of the Day

Thursday, Dec. 3, 2015, 8:00 a.m.-1:00 p.m.

• Discussion; Research-to-Practice Interface—INCLUDES

• New Business

• Adjournment

Dated: October 26, 2015.
Crystal Robinson,
Committee Management Officer.

[FR Doc. 2015-27600 Filed 10-28-15; 8:45 am]

BILLING CODE 7555-01-P